SMALL BUSINESS ADMINISTRATION

Small Business Size Standards; Waiver of the Nonmanufacturer Rule

AGENCY: U.S. Small Business Administration.

ACTION: On April 16, 2001, SBA granted a Class Waiver of the Nonmanufacturer Rule (NMR) for Aerospace Ball and Roller Bearings, North American Industry Classification System (NAICS) code 332991, Product Service Code (PSC) 3110. SBA is reopening for Public Comment the above Class Waiver from the Nonmanufacturer Rule for Aerospace Ball and Roller Bearings, consisting of, but not limited to, Annular Ball Bearings, Cylindrical Ball Bearings, Linear Ball Bearings, Linear Roller Bearings, Needle Roller Bearings, Ball or Roller Bearing Races, Roller Bearings, Tapered Roller Bearings and Thrust Roller Bearings, due to information submitted by several small business manufacturers of aerospace ball and roller bearings that have done business with the Federal government within the previous two years.

SUMMARY: The U.S. Small Business Administration is proposing to rescind a class waiver from the Nonmanufacturer Rule for NAICS code 332991, Aerospace Ball and Roller Bearings, PSC 3110.

DATES: Comments and source information must be submitted (NLT 30 days after date of publication).

ADDRESSES: You may submit comments, identified by docket number [SBA-2013-XXXX] by any of the following methods:

• Federal eRulemaking Portal: http://www.regulations.gov. Follow the instructions for submitting comments.

• Mail: Dean Koppel, Associate Director for Government Contracting, U.S. Small Business Administration, 409 3rd Street SW., 8th Floor, Washington, DC 20416.

• Hand Delivery/Courier: Dean Koppel, Associate Director for Government Contracting, U.S. Small Business Administration, 409 3rd Street SW., 8th floor, Washington, DC 20416.

All comments will be posted on www.Regulations.gov. If you wish to include within your comment, confidential business information (CBI) as defined in the Privacy and Use Notice/User Notice at www.Regulations.gov and you do not want that information disclosed, you must submit the comment by either Mail or Hand Delivery and you must address the comment to the attention of Dean Koppel, Associate Director for Government Contracting, U.S. Small Business Administration, 409 3rd Street SW., 8th Floor, Washington, DC 20416.

In the submission, you must highlight the information that you consider is CBI and explain why you believe this information should be held confidential. SBA will make a final determination, in its sole discretion, of whether the information is CBI and, therefore, will be published or not.

FOR FURTHER INFORMATION CONTACT: Edward Halstead, (202) 205-9885, Edward.halstead@sba.gov.

SUPPLEMENTARY INFORMATION: Section 8(a)(17) of the Small Business Act (the Act) (15 U.S.C. 637(a)(17)), and SBA's implementing regulations (13 CFR 121.406(b) and 13 CFR 125.6) generally require that recipients of Federal supply contracts that are set aside for small businesses, Small Disabled Veteran Owned small businesses, women-owned small businesses, or Participants in the SBA's 8(a) BD Program provide the product of a domestic small business manufacturer or processor if the recipient is other than the actual manufacturer or processor of the product. This requirement is commonly referred to as the Nonmanufacturer Rule. See 13 CFR 121.406, 13 CFR 125.15(c), and 13 CFR 127.505. The Act authorizes SBA to waive the Nonmanufacturer Rule for any “class of products” for which there are no small business manufacturers or processors available to participate in the Federal market. In order to be considered available to participate in the Federal market for a class of products, a small business manufacturer must have submitted a proposal for a contract or received a contract from the Federal government within the last 24 months. See (13 CFR 121.1202(c)). The SBA defines “class of products” based on the Office of Management and Budget's NAICS code classifications. In addition, SBA uses Product Service Codes (PSCs) to further identify particular products within the NAICS code to which a waiver would apply. The SBA may then identify a specific item within a PSC and NAICS code to which a class waiver would apply. The SBA is considering a rescission of the class waiver from the Non-Manufacturer Rule for PSC 3110, Aerospace Ball and Roller Bearings, NAICS code 332991, based on information submitted by several small business manufacturers of aerospace ball and roller bearings that have done business with the Federal government within the previous two years.

Kenneth W. Dodds,
Director, Office of Government Contracting.

[FR Doc. 2013-07851 Filed 4-3-13; 8:45 am]

BILLING CODE 8025-01-P